DEPARTMENT OF ENERGY

Federal Energy Regulatory Commission

[Docket No. CP24-93-000]

Schedule for the Preparation of an Environmental Assessment for the Venice Gathering System Abandonment Project: Venice Gathering System, LLC

On March 12, 2024, Venice Gathering System, L.L.C. (VGS) filed an application with the Federal Energy Regulatory Commission (Commission or FERC), in Docket No. CP24-93-000, requesting authorization pursuant to Section 7(b) of the Natural Gas Act to abandon certain natural gas pipeline facilities. The proposed project is known as the Venice Gathering System Abandonment Project (Project).

On March 18, 2024, the FERC issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA would be issued for a 30-day comment period.

¹ In accordance with the Council on Environmental Quality's regulations, the unique identification number for documents relating to this environmental review is EAXX-019-20-000-1730110485. 40 CFR 1501.5(c)(4) (2024).

Schedule for Environmental Review

Issuance of EA—January 31, 2025

90-day Federal Authorization Decision Deadline ²—May 1, 2025

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice would be provided by FERC so that the relevant agencies are kept informed of the Project's progress.

Project Description

VGS proposes to abandon certain onshore and offshore facilities comprising the Venice Gathering System located onshore in the state of Louisiana and offshore in state and federal waters in the Gulf of Mexico. Specifically, VGS proposes to abandon in-place a total of approximately 121.5 miles of 8-inch to 26-inch-diameter pipeline extending south of Venice Energy Services Company LLC's natural gas processing plant in Plaquemines Parish, Louisiana to offshore federal waters in the Gulf of Mexico in South Timbalier Block 151 and West Delta Blocks 41 and 72.

Background

On November 5, 2024, the Commission issued a Notice of Scoping Period Requesting Comments on Environmental Issues for the Proposed Venice Gathering System Pipeline Abandonment Project (Notice of Scoping). The Notice of Scoping was sent to affected landowners; federal, state, and local government agencies; elected officials; environmental and public interest groups; interested Indian tribes; other interested parties; and local libraries and newspapers. As of today's notice, the Commission has received no comments from any parties in response to the Notice of Scoping. All substantive environmental comments will be addressed in the EA. No government agencies volunteered to be cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-93), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 21, 2024.
Debbie-Anne A. Reese,
Secretary.

[FR Doc. 2024-27976 Filed 11-27-24; 8:45 am]

BILLING CODE 6717-01-P